DEPARTMENT OF HEALTH AND HUMAN SERVICES

National Institutes of Health

National Center for Complementary & Alternative Medicine; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Complementary and Alternative Medicine Special Emphasis Panel. SBIR.

Date: October 13, 2009.

Time: 2 p.m. to 4 p.m.

Agenda: To review and evaluate grant applications and/or proposals.

Place: National Institutes of Health/NCCAM, 6707 Democracy Blvd, Suite 401, Bethesda, MD 20892. (Telephone Conference Call)

Contact Person: Ray Bramhall, PhD, Scientific Review Officer, National Center for Complementary and Alternative Medicine, 6707 Democracy Blvd., Suite 401, Bethesda, MD 20892. bramhallr@mail.nih.gov.

Name of Committee: National Center for Complementary and Alternative Medicine Special Emphasis Panel. Basic and Preclinical Research and Career Development Applications.

Date: October 19-20, 2009.

Time: 8 a.m. to 5 p.m.

Agenda: To review and evaluate grant applications.

Place: Courtyard by Marriott, Gaithersburg Washingtonian Center, 204 Boardwalk Place, Gaithersburg, MD 20878.

Contact Person: Peter Kozel, PhD, Scientific Review Officer, NCCAM,6707 Democracy Boulevard, Suite 401, Bethesda, MD 20892-5475. 301-496-8004. kozelp@mail.nih.gov.

Name of Committee: National Center for Complementary and Alternative Medicine Special Emphasis Panel. Fellowship and Training Applications.

Date: October 28, 2009.

Time: 8 a.m. to 5 p.m.

Agenda: To review and evaluate grant applications.

Place: The Legacy Hotel and Meeting Center, 1775 Rockville Pike, Rockville, MD 20852.

Contact Person: Peter Kozel, PhD, Scientific Review Officer, NCCAM, 6707 Democracy Boulevard, Suite 401, Bethesda, MD 20892-5475. 301-496-8004. kozelp@mail.nih.gov.

Name of Committee: National Center for Complementary and Alternative Medicine Special Emphasis Panel. Clinical Science.

Date: October 29-30, 2009.

Time: 9 a.m. to 5 p.m.

Agenda: To review and evaluate grant applications.

Place: Embassy Suites at the Chevy Chase Pavilion, 4300 Military Road, NW., Washington, DC 20015.

Contact Person: Laurie Friedman Donze, PhD, Scientific Review Officer, Office of Scientific Review, National Center for Complementary and Alternative Medicine, NIH, 6707 Democracy Blvd., Suite 401, Bethesda, MD 20892. 301-402-1030. donzel@mail.nih.gov.

(Catalogue of Federal Domestic Assistance Program No. 93.213, Research and Training in Complementary and Alternative Medicine, National Institutes of Health, HHS)

Dated: September 10, 2009.
Jennifer Spaeth,
Director, Office of Federal Advisory Committee Policy.

[FR Doc. E9-22311 Filed 9-15-09; 8:45 am]

BILLING CODE 4140-01-P